DEPARTMENT OF THE INTERIOR

Fish and Wildlife Service

[FWS-R4-ES-2016-N103]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below by July 20, 2016.

ADDRESSES: Documents and other information submitted with the applications are available for review, subject to the requirements of the Privacy Act and Freedom of Information Act, by any party who submits a written request for a copy of such documents to the following office within 30 days of the date of publication of this notice: U.S. Fish and Wildlife Service, Ecological Services, 1875 Century Boulevard, Suite 200, Atlanta, GA 30345 (Attn: Karen Marlowe, Acting Permit Coordinator).

FOR FURTHER INFORMATION CONTACT: Karen Marlowe, Acting 10(a)(1)(A) Permit Coordinator, telephone 205-726-2667; facsimile 205-726-2479.

SUPPLEMENTARY INFORMATION: The public is invited to comment on the following applications for permits to conduct certain activities with endangered and threatened species under section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES section) or send them via electronic mail (email) to permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Applications

Permit Application Number: TE 56749B-1

Applicant: Patrick R. Moore, Little Rock, AR

The applicant requests an amendment of his current permit to add authorization to take (enter hibernacula or maternity roost caves, salvage dead bats, capture with mist nets or harp traps, handle, identify, collect hair samples, band, radio tag, light-tag, swab, and wing-punch) Virginia big-eared bat (Corynorhinus (=plecotus) townsendii virginianus) in addition to conducting those activities with the Indiana bat (Myotis sodalis), gray bat (Myotis grisescens), northern long-eared bat (Myotis septentrionalis), and Ozark big-eared bat (Corynorhinus townsendii ingens) and to add authorization to conduct all activities in the states of Minnesota, Wisconsin, Maryland, Vermont, New Jersey, and Delaware for scientific research aimed at recovery of the species, such as presence/absence surveys, studies to document habitat use, population monitoring, and evaluation of potential impacts of white-nose syndrome or other threats.

Permit Application Number: TE 125557-2

Applicant: Barbara P. Allen, Gulf Shores, AL

The applicant requests renewal of her permit to continue the following activities: Take (monitor nests, excavate, temporarily retain nestlings, and relocate) Kemp's ridley sea turtles (Lepidochelys kempii), loggerhead sea turtles (Caretta caretta), and green sea turtles (Chelonia mydas) for purposes of monitoring and protecting nests; take (capture, mark, and release); Alabama beach mice (Peromyscus polionotus ammobates) and Perdido Key beach mice (Peromyscus polionotus trissyllepsis) for presence/absence surveys; and take (scope burrows) gopher tortoises (Gopherus polyphemus) for presence/absence surveys in Baldwin and Mobile Counties, Alabama.

Permit Application Number: TE 070796-8

Applicant: Apogee Environmental & Archaeological, Inc., Whitesburg, KY

The applicant requests an amendment of their current permit to take (capture with mist net or harp trap, enter hibernacula and roosts, band; radio-tag; and wing punch) Ozark big-eared bat (Corynorhinus townsendii ingens) for the purpose of conducting presence/absence surveys throughout the range of the species.

Permit Application Number: TE 98532B-0

Applicant: John A. Fridell, Weaverville, NC

The applicant requests a permit to take (capture, identify, tag, release, and salvage relict shells) Appalachian elktoe (Alasmidonta raveneliana), Carolina heelsplitter (Lasmigona decorata), dwarf wedgemussel (Alasmidonta heterondon), James River spinymussel (Pleurobema collina), little-wing pearlymussel (Pegias fabula), Tar River spinymussel (Elliptio steinstansana), and noonday globe (Patera clarki nantahala) in North Carolina and South Carolina for qualitative and quantitative surveys, relocation and monitoring efforts, and other scientific research to promote management and recovery of the species.

Permit Application Number: TE 810274-12

Applicant: Eco-Tech Consultants, Inc., Frankfort, KY

The applicant requests renewal of their permit to take (enter hibernacula or maternity roost caves, salvage dead bats, capture with mist nets or harp traps, handle, identify, collect hair samples, band, radio-tag, light-tag, and wing-punch) Indiana bats (Myotis sodalis), gray bats (Myotis grisescens), Virginia big eared bats (Corynorhinus townsendii virginianus), northern long eared bats (Myotis septentrionalis), and Ozark big-eared bats (Corynorhinus townsendii ingens) while conducting presence/absence surveys, studies to document habitat use, and population monitoring; take (capture, identify, release) blackside dace (Phoxinus cumberlandensis), Citico darter (Etheostoma sitikuense), Cumberland arrow darter (Etheostoma sagitta sagitta), Cumberland darter (Etheostoma susannae), diamond darter (Crystallaria cincotta), duskytail darter (Etheostoma percnurum), Kentucky arrow darter (Etheostoma sagitta spilotum), marbled darter (Etheostoma marmorpinnum), palezone shiner (Notropis albizonatus), snail darter (Percina tanasi), and tuxedo darter (Etheostoma lemniscatum) while conducting presence/absence surveys; and take (capture, identify, release, collect relict shells) 53 endangered and threatened species of freshwater mussels while conducting presence/absence surveys. Activities are permitted in 39 states.

Permit Application Number: TE 114069-3

Applicant: Fairchild Tropical Botanic Garden, Coral Gables, FL

The applicant requests renewal and amendment of their current permit to continue collection of seeds and cuttings (removal and reduction to possession) of Key tree cactus (Pilosocereus robinii), Garber's spurge (Chamaesyce garberi), Cape Sable thoroughwort (Chromolaena frustrate), Vahl's boxwood (Buxus vahlii), Catesbaea melanocarpa (no common name), and Agave eggersiana (no common name) and add authorization to collect seeds and cuttings of Florida semaphore cactus (Consolea corallicola), Calyptranthes thomasiana (no common name), and St. Thomas prickly ash (Zanthoxylum thomasianum), along with the proposed endangered sand flax (Linum arenicola), Big Pine partridge pea (Chamaecrista lineata var. keyensis), wedge spurge (Euphorbia (Chamaesyce) deltoidea ssp. serpyllum), and the proposed threatened Blodgett's silverbush (Argythamnia blodgetii) from Key West National Wildlife Refuge, Crocodile Lake National Wildlife Refuge, National Key Deer Refuge, Everglades National Park, and Virgin Islands National Park for propagation, conducting genetic studies, and long-term seed storage.

Permit Application Number: TE 089074-3

Applicant: Corblu Ecology Group, LLC, Woodstock, GA

The applicant requests renewal of their permit to take (capture, identify, release) blue shiner (Cyprineila caerulea), Etowah darter (Etheostoma etowahae), Cherokee darter (Etheostoma scotti), amber darter (Percina antesella), goldline darter (Percina aurolineata), Conasauga logperch (Percina jenkinsi), eastern indigo snake (Drymarchon corais couperi) and take (capture, identify, release, collect relict shells) Coosa moccasinshell (Medionidus parvulus), fine-lined pocketbook (Lampsilis altilis), southern pigtoe (Pleurobema georgianum), Alabama moccasinshell (Medionidus acutissimus), fat threeridge (Amblema neisleri), purple bankclimber (Elliptoideus sloatianus), shiny-rayed pocketbook (Hamiota subangulata), gulf moccasinshell (Medionidus penicillatus), oval pigtoe (Pleurobema pyriforme), and cylindrical lioplax (Lioplax cyclostomaformis) for presence/absence surveys in Georgia.

Permit Application Number: TE 98596B-0

Applicant: Sarah E. Veselka, Fairmont, WV

The applicant requests a permit to take (capture, handle, release) pink mucket pearly mussel (Lampsilis abrupta), northern riffleshell (Epioblasma torulosa rangiana), fanshell (Cyprogenia stegaria), clubshell (Pleurobema clava), snuffbox (Epioblasma triquetra), rayed bean (Villosa fabalis), spectaclecase (Cumberlandia monodonta), sheepnose (Plethobasus cyphyus), and rabbitsfoot (Quadrula cylindrica cylindrica) for presence/absence surveys throughout the species' ranges.

Permit Application Number: TE 064856-3

Applicant: Trent A. Farris, Gulf Shores, AL

The applicant requests renewal of his permit to take (trap, mark, examine, and release) Alabama beach mouse (Peromyscus polionotus ammobates), Perdido Key beach mouse (Peromyscus polionotus trissyllepsis), Choctawatchee beach mouse (Peromyscus polionotus allophrys), and St. Andrew beach mouse (Peromyscus polionotus peninsularis) for presence/absence surveys in Alabama and Florida.

Permit Application Number: TE 834070-3

Applicant: Point Defiance Zoo & Aquarium, Tacoma, WA

The applicant requests renewal of their current permit to continue to cooperate with the U.S. Fish and Wildlife Service in the captive propagation and reintroduction of the red wolf (Canis rufus), which may include take (capture, handle, tag, and release) in addition to the normal husbandry activities carried out by the permittee for which no permit is required.

Dated: June 13, 2016.
Leopoldo Miranda,
Assistant Regional Director, Ecological Services, Southeast Region.

[FR Doc. 2016-14552 Filed 6-17-16; 8:45 am]

BILLING CODE 4310-55-P